FEDERAL MARITIME COMMISSION

Security for the Protection of the Public

Financial Responsibility to Meet Liability Incurred for Death or Injury to Passengers or other Persons on Voyages; Notice of Issuance of Certificate (Casualty)

Notice is hereby given that the following have been issued a Certificate of Financial Responsibility to Meet Liability Incurred for Death or Injury to Passengers or Other Persons on Voyages pursuant to the provisions of section 2, Public Law 89-777 (46 App. U.S.C. 817(d)) and the Federal Maritime Commission's implementing regulations at 46 CFR part 540, as amended:

Corporacion Ferries del Caribe, Inc., Access Ferries S.A. and Charm Enterprises S.A., Calle Concordia #249, P.O. Box 6448, Mayaguez, Puerto Rico 00680, Vessel: Caribbean Express.

Holland America Line Inc., Holland America Line N.V. and HAL Antillen N.V., 300 Elliott Avenue West, Seattle, WA 98119, Vessels: Amsterdam, Noordam, Prinsendam, Volendam and Zaandam.

Holland America Line Inc., Holland America Line N.V. and HAL Nederland N.V., 300 Elliott Avenue West, Seattle, WA 98119, Vessels: Maasdam, Rotterdam, Ryndam and Statendam.

Holland America Line Inc., HAL Cruises Limited and Wind Surf Limited, 300 Elliott Avenue West, Seattle, WA 98119, Vessel: Veendam.

Holland America Line Inc., Wind Spirit Limited and HAL Antillen N.V., 300 Elliott Avenue West, Seattle, WA 98119, Vessel: Wind Spirit.

Holland America Line Inc., Wind Surf Limited and HAL Antillen N.V., 300 Elliott Avenue West, Seattle, WA 98119, Vessel: Wind Surf.

Norwegian Cruise Line Limited, 7665 Corporate Center Drive, Miami, FL 33126, Vessel: Norway.

Norwegian Cruise Line Limited (d/b/a Norwegian Cruise Line), 7665 Corporate Center Drive, Miami, FL 33126, Vessel: Norwegian Crown.

Norwegian Cruise Line Limited (d/b/a Orient Lines), 7665 Corporate Center Drive, Miami, FL 33126, Vessel: Marco Polo.

Norwegian Cruise Line Limited and Norwegian Star Limited, 7665 Corporate Center Drive, Miami, FL 33126, Vessel: Norwegian Star.

RCL (UK) Ltd. (d/b/a Royal Caribbean International) and Halifax Leasing (September) Limited, Royal Caribbean House, Addlestone Road, Weybridge, Surrey KT15 2LLE, England, Vessel: Brilliance of the Seas

Dated: April 29, 2003.
Bryant L. VanBrakle,
Secretary.

[FR Doc. 03-11088 Filed 5-5-03; 8:45 am]

BILLING CODE 6730-01-P